DEPARTMENT OF COMMERCE

International Trade Administration

A-549-813

Canned Pineapple Fruit from Thailand: Extension of Time Limit for Final Results of Antidumping Duty New Shipper Review

AGENCY: Import Administration, International Trade Administration, Department of Commerce.

EFFECTIVE DATE: March 10, 2008.

FOR FURTHER INFORMATION CONTACT: Myrna Lobo, AD/CVD Operations, Office 6, Import Administration, International Trade Administration, Department of Commerce, Room 7866, 14th Street and Constitution Avenue, NW, Washington DC 20230; telephone: (202) 482-2371.

Background

On December 27, 2007, the Department published the preliminary results of the new shipper review of the antidumping duty order on canned pineapple fruit (CPF) from Thailand for the period July 1, 2006 through December 31, 2006. See Canned Pineapple Fruit from Thailand: Preliminary Results of Antidumping Duty New Shipper Review, 72 FR 73318 (December 27, 2007). This review covers the respondent, C & A Products Co., Ltd. (C&A), a producer/exporter of the subject merchandise to the United States.

Extension of Time Limit for Final Results

The final results of this new shipper review are currently due on March 18, 2008. Section 751(a)(2)(B)(iv) of the Tariff Act of 1930, as amended (the Act) requires the Department to issue the final results of a new shipper review of an antidumping order within 90 days after the date the preliminary results are issued. However, if the review is extraordinarily complicated, the Act allows the Department to extend the time limit for the final results to a maximum of 150 days. This new shipper review involves complicated material costs that differ between the U.S. and the comparison market. The Department must therefore perform additional analysis specifically with regard to the information collected at verification which was conducted subsequent to the issuance of the preliminary results. Thus, in accordance with section 751(a)(2)(B)(iv) of the Act and 19 CFR 351.214(i)(2), the Department is extending the time period for issuing the final results of review by an additional 60 days. Since the 60-day extension would result in the deadline for the final results falling on May 17, 2008, which is a Saturday, the new deadline for the final results will be the next business day, May 19, 2008. See Notice of Clarification: Application of “Next Business Day” Rule for Administrative Determination Deadlines Pursuant to the Tariff Act of 1930, As Amended, 70 FR 24533 (May 10, 2005).

This notice is published pursuant to sections 751(a)(2)(B)(iv) and 777(i)(1) of the Act and 351.214(i)(2) of the Department's regulations.

Dated: March 3, 2008.
Gary Taverman,
Acting Deputy Assistant Secretary for Import Administration.

[FR Doc. E8-4648 Filed 3-7-08; 8:45 am]

BILLING CODE 3510-DS-S